DEPARTMENT OF DEFENSE

Defense Acquisition Regulations System

48 CFR Parts 215, 225, 234 and 252

[Docket DARS-2023-0001]

Defense Federal Acquisition Regulation Supplement; Technical Amendments

AGENCY: Defense Acquisition Regulations System, Department of Defense (DoD).

ACTION: Final rule; technical amendment.

SUMMARY: DoD is amending the Defense Federal Acquisition Regulation Supplement (DFARS) in order to make needed editorial changes.

DATES: Effective August 17, 2023.

FOR FURTHER INFORMATION CONTACT: Ms. Jennifer D. Johnson, Defense Acquisition Regulations System, telephone 703-717-8226.

SUPPLEMENTARY INFORMATION: This final rule amends the DFARS to make needed editorial changes to 48 CFR parts 215, 225, 234, and 252.

(1) DFARS 215.406-2 is amended to remove obsolete text that pointed to DFARS Procedures, Guidance, and Information, and to reserve the section.

(2) DFARS 225.1101(10)(i)(D) is amended by removing the phrase “equals or exceeds $25,000, but” to correct the CFR. The final rule for DFARS Case 2020-D032, published at 87 FR 76984 on December 16, 2022, and effective December 30, 2022, made this change.

(3) DFARS 234.004(2)(i)(C) introductory text is amended by removing “authority's's” and adding “authority's” in its place to correct the CFR.

(4) DFARS 252.206-7000 is amended by removing “10 U.S.C. 2304(c)(3)” and adding “10 U.S.C. 3204(a)(3)” in its place to correct the CFR. The final rule for DFARS Case 2022-D018, published at 87 FR 76988 on December 16, 2022, and effective December 30, 2022, made this change.

List of Subjects in 48 CFR Parts 215, 225, 234 and 252.

Government procurement.

Jennifer D. Johnson,
Editor/Publisher, Defense Acquisition Regulations System.

Therefore, 48 CFR parts 215, 225, and 252 are amended as follows:

1. The authority citation for 48 CFR parts 215, 225, 234, and 252 continues to read as follows:

Authority: 41 U.S.C. 1303 and 48 CFR chapter 1.

PART 215—CONTRACTING BY NEGOTIATION

215.406-2 [Removed and Reserved]

2. Remove and reserve section 215.406-2.

PART 225—FOREIGN ACQUISITION

225.1101 [Amended]

3. Amend section 225.1101 in paragraph (10)(i)(D) by removing “equals or exceeds $25,000, but”.

PART 234—MAJOR SYSTEM ACQUISITION

234.004 [Amended]

4. Amend section 234.004(2)(i)(C) introductory text by removing “authority's's” and adding “authority's” in its place.

PART 252—SOLICITATION PROVISIONS AND CONTRACT CLAUSES

252.206-7000 [Amended]

5. Amend section 252.206-7000—

a. By removing the clause date “(DEC 2022)” and adding “(AUG 2023)” in its place; and

b. In the provision by removing “10 U.S.C. 2304(c)(3)” and adding “10 U.S.C. 3204(a)(3)” in its place.

[FR Doc. 2023-17558 Filed 8-16-23; 8:45 am]

BILLING CODE 5001-06-P